DEPARTMENT OF COMMERCE

International Trade Administration

Textile and Apparel Products from Vietnam: Import Monitoring Program; Public Hearing

AGENCY: Import Administration, International Trade Administration, Department of Commerce.

ACTION: Public Hearing - Import Monitoring of Textile and Apparel Products from Vietnam.

SUMMARY: As stated in its January 23, 2007 Federal Register notice requesting public comment (72 FR 2860), the Department of Commerce (the Department) will hold a public hearing on its import monitoring program covering textile and apparel products from Vietnam. The hearing will be held on April 24, 2007 in Washington, D.C. Further details regarding the location, time and requirements for speaking at the hearing are provided below.

DATES: The hearing will be held on April 24, 2007 starting at 9 AM in the auditorium at the Department of Commerce, 14th Street and Constitution Avenue, NW, Washington DC.

Participation:

The hearing is open to the public. There are no prerequisites or conditions on participating at the hearing. All are welcome to speak at the hearing subject to the guidelines outlined in this notice. If you plan to attend the hearing, please notify the Department by no later than April 9, 2007, and if you wish to speak at the hearing, please indicate that as well. This can be done in writing or electronically at vietnam-texapp-hearing@mail.doc.gov.

There are no constraints on subject matter relating to the Department's Vietnam textile and apparel import monitoring program; however, speakers should be aware that these hearings will be open to the public and may be videotaped for later viewing on the Vietnam textile and apparel import monitoring website; there will be no provisions for handling or protecting business proprietary information. In preparing their comments, parties may wish to review the Department's December 4, 2006, and January 23, 2007, Federal Register notices requesting public comment on the monitoring program and the comments received. This information and the monitored Vietnamese textile and apparel import data is available on the Vietnam textile and apparel import monitoring website at the following address: http://ia.ita.doc.gov/download/vietnam-textile-monitoring/vtm-index.html.

Oral Comments:

Individual presentations will be limited to five minutes to allow for possible questions from the Chair and the panel. Anyone requiring additional time for their presentation must seek an extension of the time limit at the time of their notification to the Department. Additional time may be granted as time and the number of participants permits. Should an extension of the time limit be granted, speakers must submit a copy of their comments in writing or electronically by April 20, 2007.

Written Comments:

Written comments, though strongly encouraged, are not required for those making presentations within the five minute time limit. For those seeking an extension of the five minute time limit, a copy of their comments must be submitted in writing or electronically by April 20, 2007. Written comments are limited to 15 pages. Written comments will be made available on the Vietnam textile and apparel import monitoring website at the following address: http://ia.ita.doc.gov/download/vietnam-textile-monitoring/vtm-index.html.

ADDRESSES: Comments can either be submitted in writing or electronically. Persons wishing to comment in writing should file, by the date specified above, a signed original, and four copies of each set of comments. Written comments should be addressed to David Spooner, Assistant Secretary for Import Administration, Room 1870, Department of Commerce, 14th Street and Constitution Avenue, NW, Washington D.C. 20230. Electronic comments should be submitted to vietnam-texapp-hearing@mail.doc.gov.

All comments will be available for public inspection at Import Administration's Central Records Unit, Room B-099, between the hours of 8:30 a.m. and 5 p.m. on business days. The Department will not accept nor consider comments accompanied by a request that a part or all of the material be treated confidentially because of its business proprietary nature or for any other reason. In addition, all comments will be made available to the public in Portable Document Format (PDF) on the Internet at Import Administration's Vietnam import monitoring webpage: http://ia.ita.doc.gov/download/vietnam-textile-monitoring/vtm-index.html. To the extent possible, all comments will be posted within 48 hours. Any questions concerning file formatting, document conversion, access on the Internet, or other electronic filing issues should be addressed to Andrew Lee Beller, Import Administration Webmaster, at (202) 482-0866, e-mail address: webmaster-support@ita.doc.gov.

FOR FURTHER INFORMATION CONTACT: Kelly Parkhill at (202) 482-3791.

Dated: March 21, 2007.
David M. Spooner,
Assistant Secretary for Import Administration.

[FR Doc. E7-5569 Filed 3-23-07; 8:45 am]

BILLING CODE 3510-DS-S